AFRICAN DEVELOPMENT FOUNDATION

Public Quarterly Meeting of the Board of Directors

AGENCY: United States African Development Foundation

ACTION: Notice of meeting.

SUMMARY: The U.S. African Development Foundation (USADF) will hold its quarterly meeting of the Board of Directors to discuss the agency's programs and administration. This meeting location will be held via teleconference. For teleconference details, see the provided contact information.

DATES: The meeting date is Tuesday, July 21, 2020, 10:30 a.m. to 12:00 p.m.

FOR FURTHER INFORMATION CONTACT: Ms. Nina-Belle Mbayu, (202) 233-8808, nbmbayu@usadf.gov.

Authority: Public Law 96-533 (22 U.S.C. § 290h).

Dated: July 14, 2020.
Nina-Belle Mbayu,
Acting General Counsel.

[FR Doc. 2020-15753 Filed 7-20-20; 8:45 am]

BILLING CODE 6117-01-P